DEPARTMENT OF COMMERCE

Foreign-Trade Zones Board

[B-26-2023]

Foreign-Trade Zone (FTZ) 204; Authorization of Limited Production Activity; GSM Engineered Fabrics, LLC; (Industrial Belts); Kingsport, Tennessee

On April 12, 2023, the Tri-Cities Airport Authority, grantee of FTZ 204, submitted a notification of proposed production activity to the FTZ Board on behalf of GSM Engineered Fabrics, LLC, within FTZ 204 in Kingsport, Tennessee.

The notification was processed in accordance with the regulations of the FTZ Board (15 CFR part 400), including notice in the Federal Register inviting public comment (88 FR 23620, April 18, 2023). On August 10, 2023, the applicant was notified of the FTZ Board's decision that further review of part of the proposed activity is warranted. The FTZ Board authorized the production activity described in the notification on a limited basis, subject to the FTZ Act and the Board's regulations, including section 400.14, and further subject to a restriction requiring that the following components be admitted in privileged foreign status (19 CFR 146.41): (1) rolls of woven plastic polyester belt material and (2) rolls of spiral polyphenylene sulfide plastic belt material.

Dated: August 10, 2023.
Elizabeth Whiteman,
Executive Secretary.

[FR Doc. 2023-17525 Filed 8-15-23; 8:45 am]

BILLING CODE 3510-DS-P